DEPARTMENT OF TRANSPORTATION

Federal Aviation Administration

Agency Information Collection Activities: Requests for Comments; Clearance of a New Approval of Information Collection: Automatic Dependent Surveillance—Broadcast (ADS-B) Rebate System

AGENCY: Federal Aviation Administration (FAA), DOT.

ACTION: Notice and request for comments.

SUMMARY: In accordance with the Paperwork Reduction Act of 1995, the FAA invites public comments about its intention to request Office of Management and Budget (OMB) approval for a new information collection. The FAA is launching a rebate program to emphasize the urgent need for pilots to comply with Automatic Dependent Surveillance Broadcast (ADS-B) Out requirements ahead of the January 1, 2020, compliance deadline. This program will defray costs associated with the ADS-B equipment and installation for eligible general aviation aircraft, and help ensure that all general aviation aircraft are equipped by the compliance date.

DATES: Written comments should be submitted by August 8, 2016.

ADDRESSES: Send comments to the FAA at the following address: Ronda Thompson, Room 441, Federal Aviation Administration, ASP-110, 950 L'Enfant Plaza SW., Washington, DC 20024.

Public comments invited: Individuals are asked to comment on any aspect of this information collection, including (a) whether the proposed collection of information is necessary for this program; (b) the accuracy of the estimated burden; (c) ways for the FAA to enhance the quality, utility and clarity of the information collection; and (d) ways that the burden could be minimized without reducing the quality of the collected information. The agency will summarize and/or include public comments in the request for OMB's clearance of this information collection.

FOR FURTHER INFORMATION CONTACT: Ronda Thompson by email at: Ronda.Thompson@faa.gov.

SUPPLEMENTARY INFORMATION:

OMB Control Number: Not assigned.

Title: Automatic Dependent Surveillance-Broadcast (ADS-B) Rebate System.

Form Numbers: Information is collected via a Web site specific to the ADS-B Rebate program.

Type of Review: New information collection.

Background: On May 21, 2010, the FAA issued a final rule requiring Automatic Dependence Surveillance-Broadcast (ADS-B) Out avionics on aircraft operating in Classes A, B, and C airspace, as well as certain other classes of airspace within the National Airspace System (NAS), no later than January 1, 2020 (75 FR 30160). ADS-B Out equipage is a critical step in achieving the benefits of NextGen, in that it transforms aircraft surveillance with satellite-based precision. When properly equipped with ADS-B, both pilots and controllers can, for the first time, see the same real-time displays of air traffic, and pilots will be able to receive air traffic services in places where it has not been previously available.

To meet this deadline for compliance, the FAA estimated that as many as 160,000 general aviation aircraft would need to be equipped with ADS-B by January 1, 2020. In developing the ADS-B Out final rule, the FAA assumed that these aircraft owners would begin equipping new aircraft with ADS-B equipment in 2012, and begin retrofitting the existing aircraft in 2013, to minimize costs associated with retrofitting outside of the aircraft's heavy maintenance cycle. In any given year, avionics installers are capable of completing approximately 35,000-50,000 installations. In order to guarantee that general aviation aircraft that will operate in ADS-B airspace are equipped by January 1, 2020, approximately 23,000 aircraft would have needed to equip each year beginning in early 2013. This would have ensured there would be a balance between the expected demand for avionics installations and the capacity of avionics installers. Owners of general aviation aircraft who are particularly price sensitive are postponing their installations. This trend demonstrates that there is a near-term need to accelerate equipage, to ensure that pilots, manufacturers, and retail facilities have adequate time and capacity to equip aircraft by the January 1, 2020, compliance deadline. It is necessary to take advantage of the installation capacity available now in order to avoid back-end capacity constraints that could result in some aircraft being unable to receive their upgrades ahead of the compliance deadline, which will, in turn, lead to denial of access to ADS-B airspace once the ADS-B equipage mandate is in effect. This limited-time rebate will provide an incentive for early retrofitting, but it is intended to emphasize the urgent need for pilots to comply with ADS-B Out requirements ahead of 2020.

Section 221 of the FAA Modernization and Reform Act of 2012 provided the FAA with the authority to establish an incentive program for equipping general aviation and commercial aircraft with communications, surveillance, navigation, and other avionics equipment. Thus, the FAA is establishing an initiative (the ADS-B Rebate Program) to addresses the rate of general aviation equipage by incentivizing those aircraft owners who are affected by the ADS-B Out requirements and are the most price sensitive to the cost of avionics and the associated installation. The ADS-B Rebate Program will provide a one-time $500 rebate to an aircraft owner to defray some of the cost of an ADS-B Out system meeting the program eligibility requirements. The rebates will be available on a first come first served basis.

The FAA, with input from industry partners (Aircraft Electronics Association, Aircraft Owners and Pilots Association, and General Aircraft Manufacturers Association), designed this rebate program targeting specific eligibility requirements for avionics, aircraft types, and aircraft owners. The eligibility requirements are as follows:

Eligible Avionics—Technical Standard Order (TSO)-certified Version 2 ADS-B Out system, purchased on or after June 8, 2016. Such equipment must have a TSO marking for TSO-C154c, or TSO-C166b, or both. Eligible ADS-B Out system equipment may have an embedded position source compliant with one of the following TSOs: TSO-C-145c (or subsequent versions), TSO-C146c (or subsequent versions), or may be connected to a separate position source compliant with TSO-C-145c (or subsequent versions) or TSO-C146c (or subsequent versions). Any separate position source must comply with the guidance published in FAA Advisory Circular (AC) 20-165B. ADS-B In/Out systems compliant with TSO-C154c, TSO-C166b, or both, are also eligible.

Eligible Aircraft—Only U.S.-registered, fixed-wing single-engine piston aircraft first registered before January 1, 2016 are eligible for the program. This eligibility will be determined via the FAA Civil Aircraft Registry. Program eligibility also requires permanent installation of new avionics equipment in a single aircraft in compliance with applicable FAA regulations and guidance material.

Aircraft Owner—Program eligibility is limited to one rebate per aircraft owner. An aircraft owner means either a single individual owner or any owning entity (any legal ownership entity including but not limited to an LLC, corporation, partnership or joint venture) identified as the owner of the eligible aircraft in the FAA Civil Aviation Registry.

Exclusions—All aircraft for which FAA has already paid or previously committed to upgrade to meet the ADS-B Out mandate. Software upgrades to existing equipment are not eligible. Aircraft that already have a Version 2 ADS-B Out system prior to the launch of the data collection system are not eligible. New aircraft produced after January 1, 2016, are not eligible.

For reimbursement under this program, the FAA Civil Aircraft Registry information regarding ownership is controlling and the rebate program will be using the publically available database to determine eligibility requirements based on the aircraft information. The aircraft owner is responsible for ensuring that the FAA Civil Aircraft Registry information is accurate before a claim for the rebate is submitted; rebates will only be mailed to the registered owner and address as indicated in the Civil Aircraft Registry.

To request a rebate, the applicant must provide via the program Web site a valid email address for official correspondence and notifications and aircraft-specific information such as the aircraft registration number, TSO-certified equipment purchased, and scheduled installation date. Once the information is submitted, the FAA will validate eligibility for the program with the official records regarding aircraft ownership contained in the publically available Civil Aircraft Registry. Additionally, anyone requesting a rebate will need to accept legal notices electronically by acknowledging their agreement and acceptance and providing the name of the person submitting the information on the individual web application.

Through the ADS-B Rebate Program, aircraft owners will be permitted to reserve a rebate, validate their installation, and then claim their rebate through the ADS-B Rebate Program Web site. The program steps and timeline requirements are as follows:

[1] Decide: The aircraft owner arranges for purchase and schedules installation of TSO-certified avionics for an eligible aircraft.

[2] Reserve: Before avionics installation occurs, the aircraft owner must go to the ADS-B Rebate Program Web site to submit information for a rebate reservation. Upon successful submission, the system will generate an email with a Rebate Reservation Code. During the rebate reservation process, the eligible aircraft's information is validated against the FAA Civil Aircraft Registry, including ownership information. If there are discrepancies, the aircraft owner may continue with the reservation process; but before a valid Incentive Code can be obtained in step [5], the aircraft owner must ensure that the FAA Civil Aircraft Registry data for their eligible aircraft is corrected.

[3] Install: TSO-certified ADS-B avionics are installed in the eligible aircraft.

[4] Fly & Validate: Only after the prior steps are completed, the eligible aircraft must be flown in the airspace defined in 14 CFR 91.225 for at least 30 minutes, with at least 10 aggregate minutes of maneuvering flight, per the guidance in AC 20-165B http://www.faa.gov/regulations_policies/advisory_circulars/index.cfm/go/document.information/documentID/1028666, sections 4.3.2 and 4.3.2.3-4.3.2.6 for Part 23 aircraft. After flight, the ADS-B data is used to generate a Public Compliance Report (PCR) and General Aviation Incentive Requirements Status (GAIRS) Report, which is how the performance of the eligible aircraft's ADS-B installation is validated. Note that it may be necessary to repeat this step more than once, until the GAIRS Report indicates PASS for all fields and provides an Incentive Code in the Rebate Status section. Once proper installation and operation of the ADS-B is validated the FAA will notify the applicant using the email address provided at the time of rebate request.

[5] Claim: Within 60 days of the scheduled installation date, the aircraft owner gathers their Rebate Reservation Code (from step [2]) and their Incentive Code (from step [4]) and submits this information as well as their name and aircraft number via the ADS-B Rebate Program Web site to complete the claim for their rebate.

The FAA is seeking comments from the public regarding the information we collect for the program and how we collect it. The information provided in this notice is solely to identify and collect information from the public on the potential burden to an individual that would result from this program.

Respondents: Approximately 20,000 rebates.

Frequency: Information is collected only during the times the user is submitting their reservation and claiming their rebate after proof of meeting the eligibility requirements.

Estimated Average Burden per Response: Approximately 6 minutes.

Estimated Total Annual Burden: Approximately 2,000 hours.

Issued in Washington, DC, on June 1, 2016.
Ronda Thompson,
FAA Information Collection Clearance Officer, Performance, Policy, and Records Management Branch, ASP-110.

[FR Doc. 2016-13307 Filed 6-6-16; 4:15 pm]

BILLING CODE 4910-13-P